DEPARTMENT OF THE INTERIOR

Fish and Wildlife Service

50 CFR Part 17

RIN 1018-AT37

Endangered and Threatened Wildlife and Plants; Proposed Rule to Remove the Virginia Northern Flying Squirrel (Glaucomys sabrinus fuscus) From the Federal List of Endangered and Threatened Wildlife

AGENCY: Fish and Wildlife Service, Interior.

ACTION: Proposed rule; extension of comment period.

SUMMARY: We, the U.S. Fish and Wildlife Service (Service), are extending the public comment period on the proposed rule to remove the Virginia northern flying squirrel (Glaucomys sabrinus fuscus), more commonly known as the West Virginia northern flying squirrel, from the Federal List of Endangered and Threatened Wildlife, due to recovery. Comments previously submitted need not be resubmitted as they have been incorporated into the public record and will be fully considered in the final determination.

DATES: The public comment period for the proposed rule published at 71 FR 75924, December 19, 2006, is extended from February 20, 2007, to April 23, 2007. Any comments received after the closing date may not be considered in the final decision on the proposal.

ADDRESSES: You may submit comments on the proposed delisting by any one of several methods:

1. You may submit written comments and information to the Assistant Chief, Division of Endangered and Threatened Species, U.S. Fish and Wildlife Service, Northeast Regional Office, 300 Westgate Center Drive, Hadley, MA 01035.

2. You may hand-deliver written comments to our Northeast Regional Office, at the above address.

3. You may fax your comments to 413-253-8482.

4. You may use the Federal eRulemaking Portal: http://www.regulations.gov. Follow the instructions for submitting comments.

Comments and materials received will be available for public inspection, by appointment, during normal business hours at our Northeast Regional Office.

FOR FURTHER INFORMATION CONTACT: Diane Lynch at our Northeast Regional Office (telephone: 413-253-8628) or the Field Office Supervisor, West Virginia Field Office, 694 Beverly Pike, Elkins, WV 26241 (telephone: 304-636-6586).

SUPPLEMENTARY INFORMATION:

Background

On December 19, 2006, the Service published a proposed rule (71 FR 75924), under the authority of the Act, to remove the WVNFS from the Federal List of Endangered and Threatened Wildlife, due to recovery. The proposed rule opened a 60-day comment period, which was to end on February 20, 2007, on that action. We have received requests to extend the comment period in order to allow additional time for the public to review the data and provide comments. To ensure that the public has sufficient opportunity to review the available scientific and commercial data, we are extending the comment period for an additional 60 days. Comments on the proposed delisting rule will be accepted through April 23, 2007.

Authority: The authority for this action is the Endangered Species Act of 1973, as amended (16 U.S.C. 1531 et seq.).

Public Comments Solicited

We intend for any final action resulting from the proposal to be as accurate as possible. Therefore, we solicit data, comments, or suggestions from the public, other concerned government agencies, the scientific community, industry, Tribes, or any other interested party concerning the proposed rule. We particularly seek comments concerning: (1) Biological, commercial, trade, or other relevant data concerning any threat (or lack thereof) to the WVNFS; (2) additional information on the range, distribution, and population size of the WVNFS and its habitat; (3) the location of any additional populations of the WVNFS; and (4) data on population trends. Please note that comments merely stating support or opposition to the actions under consideration without providing supporting information, although noted, will not be considered in making a determination, as section 4(b)(1)(A) of the Endangered Species Act of 1973, as amended (Act) (16 U.S.C. 1531 et seq.), directs that determinations as to whether any species is a threatened or endangered species shall be made “solely on the basis of the best scientific and commercial data available.”

Our practice is to make comments, including names and home addresses of respondents, available for public review during regular business hours. Individual respondents may request that we withhold their name and/or home address, etc., but if you wish us to consider withholding this information, you must state this prominently at the beginning of your comments. In addition, you must present rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety. Comments and other information received, as well as supporting documentation used to write this rule, will be available for public inspection, by appointment, during normal business hours at our Northeast Regional Office (see ADDRESSES). In making a final decision on the proposal, we will take into consideration the comments and any additional information we receive. Such communications may lead to a final rule that differs from the proposal.

Dated: February 15, 2007.
Kenneth Stansell,
Acting Director, U.S. Fish and Wildlife Service.

[FR Doc. 07-787 Filed 2-16-07; 11:48 am]

BILLING CODE 4310-55-M